OFFICE OF PERSONNEL MANAGEMENT

5 CFR Part 591

RIN 3206-AL07

Allowances and Differentials

AGENCY: Office of Personnel Management.

ACTION: Final rule.

SUMMARY: The Office of Personnel Management is issuing final regulations to increase the maximum annual uniform allowance rate from $400 to $800. When civilian Federal employees are required to wear a uniform in the performance of their duties, agencies must pay a uniform allowance or furnish a uniform.

DATES: The regulations are effective on May 29, 2007.

FOR FURTHER INFORMATION CONTACT: Kevin Kitchelt, by telephone at (202) 606-2858; by fax at (202) 606-0824; or by e-mail at pay-performance-policy@opm.gov.

SUPPLEMENTARY INFORMATION: On June 30, 2006, the Office of Personnel Management (OPM) issued proposed regulations (71 FR 37507) to increase the maximum annual uniform allowance rate. Under 5 U.S.C. 5901, when civilian Federal employees are required to wear a uniform in the performance of their duties, agencies must pay a uniform allowance or furnish a uniform. OPM proposed to increase the maximum annual uniform allowance rate from $400 to $500. The 60-day comment period ended on August 29, 2006. During the comment period, OPM received comments from nine individuals, two labor organizations, one agency, and one professional association. The comments are addressed in this final rule.

Increasing the Maximum Annual Uniform Allowance Rate

Under 5 U.S.C. 5902, OPM may, from time to time, adjust the maximum annual uniform allowance granted to employees for the cost of their uniforms. The rate has not been increased since 1991. On June 30, 2006, OPM issued proposed regulations in 5 CFR 591.103 to increase the maximum annual uniform allowance rate from $400 to $500. OPM's proposed increase was based on the Bureau of Labor Statistics' Producer Price Index—Commodities (Seasonally Adjusted), which showed an increase of 24 percent between January 1991 and January 2005. Most of the commenters supported OPM's proposal to increase the maximum annual uniform allowance rate but suggested that the rate needed to be increased to an amount higher than $500. Two individuals objected to the proposed increase in the maximum annual uniform allowance rate.

The commenters identified specific categories of employees in uniforms (e.g., firefighters) that require protective clothing which must meet certain professional standards. The commenters noted the protective clothing is expensive because the quality of such clothing is continuously improving due to technological advancements in the materials (i.e., Nomex) used to make it. The professional association recommended an increase to $800.

We agree that expensive specialized clothing may be required for certain categories of employees and should be considered in determining a maximum annual uniform allowance rate. Therefore, we are amending 5 CFR 591.103 to provide a maximum annual uniform allowance rate of $800. Although agencies will now be permitted to pay an annual uniform allowance rate up to a maximum rate of $800 a year, it is not anticipated or expected that every employee who is required to wear a uniform will receive the maximum rate of $800 per year. Agencies are in the best position to identify and manage the specific uniform allowance needs of their employees.

We note that although OPM has sole authority to adjust the maximum annual uniform allowance granted to employees for maintaining uniforms (5 U.S.C. 5902 and 5 CFR 591.103), agencies have discretionary authority to establish a higher initial maximum uniform allowance rate under 5 CFR 591.104. An agency must publish a notice in the Federal Register with a description and justification for establishing a higher initial maximum uniform allowance rate.

One labor organization recommended that OPM require agencies to provide uniforms when the safety of the employee is involved. We have not adopted this recommendation because OPM does not have the authority to implement such a requirement. Under 5 U.S.C. 5901(a), an agency must determine whether to furnish a uniform or pay a uniform allowance to its employees who are required to wear a uniform.

Agency Uniform Allowance Policy

An individual recommended that agencies be required to establish a policy for paying uniform allowances to ensure that uniforms are maintained appropriately and the allowance is used solely to maintain uniforms. Although we believe agencies have already established such policies in writing or in practice, as we adopt a new annual uniform allowance rate that is twice the amount of the previous rate, we agree OPM's regulations should make this requirement explicit. We have added a new paragraph (c) to 5 CFR 591.103 to require that any agency which provides a uniform allowance must establish policies to administer the uniform allowance program and such policies must contain uniform standards acceptable to the agency but we defer to agencies to develop specific provisions of the policy. At a minimum, OPM expects such policies will (1) Identify the category of employees required to wear uniforms, (2) establish requirements for determining the annual uniform allowance rate based on the specific uniform needs of each category of employees, (3) require employees to provide evidence acceptable to the agency of the employee's purchase of one or more uniforms (e.g., receipts), and (4) require employees to obtain uniforms that meet standards acceptable to the agency. Agencies may use any standards acceptable to them to determine uniform appearance, and any other specialized uniform requirements such as safety requirements, if appropriate.

E.O. 12866, Regulatory Review

This rule has been reviewed by the Office of Management and Budget in accordance with E.O. 12866.

Regulatory Flexibility Act

I certify that these regulations would not have a significant economic impact on a substantial number of small entities because they would apply only to Federal agencies and employees.

List of Subjects in 5 CFR Part 591

Government employees, Travel and transportation expenses, Wages.

Office of Personnel Management.
Linda M. Springer,
Director.

Accordingly, OPM is amending 5 CFR part 591 as follows:

PART 591—ALLOWANCES AND DIFFERENTIALS

Subpart A—Uniform Allowances

1. The authority citation for subpart A of part 591 continues to read as follows:

Authority: 5 U.S.C. 5903; E.O. 12748, 3 CFR 1991 Comp., p. 316. Source: 59 FR 43705, Aug. 25, 1994, unless otherwise noted.

2. In § 591.103, paragraphs (a) and (b) are revised and a new paragraph (c) is added to read as follows:

§ 591.103 Governmentwide maximum uniform allowance rate.

* * * * *

(a) Pay an allowance for a uniform not to exceed $800 a year; or

(b) Furnish a uniform at a cost not to exceed $800 a year.

(c) Any agency which provides a uniform allowance under paragraph (a) of this section must establish policies to administer the uniform allowance program, including uniform standards acceptable to the agency.

[FR Doc. E7-7959 Filed 4-25-07; 8:45 am]

BILLING CODE 6325-39-P